DEPARTMENT OF ENERGY

Federal Energy Regulatory Commission

Combined Notice of Filings

Take notice that the Commission has received the following Natural Gas Pipeline Rate and Refund Report filings:

Filings Instituting Proceedings

Docket Numbers: RP15-606-000.

Applicants: High Point Gas Transmission, LLC.

Description: High Point Gas Transmission, LLC submits its Annual Unaccounted for Gas Retention Filing.

Filed Date: 3/2/15.

Accession Number: 20150302-5381.

Comments Due: 5 p.m. ET 3/16/15.

Docket Numbers: RP15-609-000.

Applicants: Iroquois Gas Transmission System, L.P.

Description: Section 4(d) rate filing per 154.204: 03/04/15 Negotiated Rates—Freepoint Commodities LLC (RTS) 7250-12 to be effective 4/1/2015.

Filed Date: 3/4/15.

Accession Number: 20150304-5101.

Comments Due: 5 p.m. ET 3/16/15.

Docket Numbers: RP15-610-000.

Applicants: Enable Gas Transmission, LLC.

Description: Section 4(d) rate filing per 154.204: Negotiated Rate Filing—March 2015—LER 0222 Att A to be effective 3/4/2015.

Filed Date: 3/4/15.

Accession Number: 20150304-5156.

Comments Due: 5 p.m. ET 3/16/15.

Docket Numbers: RP15-611-000.

Applicants: Iroquois Gas Transmission System, L.P.

Description: Section 4(d) rate filing per 154.204: 03/04/15 Negotiated Rates—Trafigura Trading LLC (RTS) 7445-05 to be effective 4/1/2015.

Filed Date: 3/4/15.

Accession Number: 20150304-5162.

Comments Due: 5 p.m. ET 3/16/15.

Docket Numbers: RP15-612-000.

Applicants: Northern Natural Gas Company.

Description: Section 4(d) rate filing per 154.204: 20150304 Negotiated Rate to be effective 3/4/2015.

Filed Date: 3/4/15.

Accession Number: 20150304-5170.

Comments Due: 5 p.m. ET 3/16/15.

Docket Numbers: RP15-613-000.

Applicants: Guardian Pipeline, L.L.C.

Description: Section 4(d) rate filing per 154.204: Negotiated Rate PAL Agreement—Twin Eagle Resources, LLC to be effective 3/5/2015.

Filed Date: 3/4/15.

Accession Number: 20150304-5177.

Comments Due: 5 p.m. ET 3/16/15.

Docket Numbers: RP15-614-000.

Applicants: Enable Mississippi River Transmission, L.

Description: Section 4(d) rate filing per 154.204: Negotiated Rate Filing to Amend LER 5680's Attachment A 3-4-15 to be effective 3/4/2015.

Filed Date: 3/4/15.

Accession Number: 20150304-5178.

Comments Due: 5 p.m. ET 3/16/15.

Docket Numbers: RP15-615-000.

Applicants: El Paso Natural Gas Company, L.L.C.

Description: Section 4(d) rate filing per 154.204: Non-Conforming Agreements Filing (AEPCO) to be effective 4/1/2015.

Filed Date: 3/6/15.

Accession Number: 20150305-5000.

Comments Due: 5 p.m. ET 3/11/15.

Docket Numbers: RP15-616-000.

Applicants: Guardian Pipeline, L.L.C.

Description: Section 4(d) rate filing per 154.204: Negotiated Rate PAL Agreements—MIECO, Inc. & Koch Energy Services, LLC to be effective 3/5/2015.

Filed Date: 3/6/15.

Accession Number: 20150306-5095.

Comments Due: 5 p.m. ET 3/18/15.

Docket Numbers: RP15-617-000.

Applicants: American Midstream (Midla), LLC.

Description: Section 4(d) rate filing per 154.204: Midla Elimination of ITS Revenue Crediting to be effective 4/6/2015.

Filed Date: 3/6/15.

Accession Number: 20150306-5235.

Comments Due: 5 p.m. ET 3/18/15.

Docket Numbers: RP15-618-000.

Applicants: Discovery Gas Transmission LLC.

Description: Section 4(d) rate filing per 154.204: 2015 Spring Tariff Revisions to be effective 4/5/2015.

Filed Date: 3/6/15.

Accession Number: 20150306-5282.

Comments Due: 5 p.m. ET 3/18/15.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP15-262-002.

Applicants: American Midstream (Midla), LLC.

Description: Compliance filing per 154.203: Midla Compliance Filing in RP15-262 to be effective 2/1/2015.

Filed Date: 2/19/15.

Accession Number: 20150219-5097.

Comments Due: 5 p.m. ET 3/12/15.

Docket Numbers: RP11-1541-001.

Applicants: Portland Natural Gas Transmission System.

Description: Compliance filing per 154.203: Compliance to RP10-729-000 (RP11-1541-000) (1 of 3) to be effective 12/1/2010.

Filed Date: 3/6/15.

Accession Number: 20150306-5131.

Comments Due: 5 p.m. ET 3/18/15.

Docket Numbers: RP11-1541-002.

Applicants: Portland Natural Gas Transmission System.

Description: Compliance filing per 154.203: Compliance to RP10-729-000 (RP11-1541-000) (2 of 3) to be effective 10/1/2011.

Filed Date: 3/6/15.

Accession Number: 20150306-5134.

Comments Due: 5 p.m. ET 3/18/15.

Docket Numbers: RP11-1541-003.

Applicants: Portland Natural Gas Transmission System.

Description: Compliance filing per 154.203: Compliance to RP10-729-000 (RP11-1541-000) (3 of 3) to be effective 10/1/2013.

Filed Date: 3/6/15.

Accession Number: 20150306-5137.

Comments Due: 5 p.m. ET 3/18/15.

Docket Numbers: RP15-615-001.

Applicants: El Paso Natural Gas Company, L.L.C.

Description: Tariff Amendment per 154.205(b): Correction to Non-Conforming Agreements Filing to be effective 4/1/2015.

Filed Date: 3/6/15.

Accession Number: 20150306-5135.

Comments Due: 5 p.m. ET 3/11/15.

Docket Numbers: RP15-533-001.

Applicants: ANR Pipeline Company.

Description: Tariff Amendment per 154.205(b): Amendment to RP15-533-000 to be effective 4/1/2015.

Filed Date: 3/6/15.

Accession Number: 20150306-5078.

Comments Due: 5 p.m. ET 3/13/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 9, 2015.
Nathaniel J. Davis, Sr.,
Deputy Secretary.

[FR Doc. 2015-05867 Filed 3-13-15; 8:45 am]

BILLING CODE 6717-01-P